SECURITIES AND EXCHANGE COMMISSION

[File No. 500-1]

Golden Elephant Glass Technology, Inc., and Pacific Alliance Corp.; Order of Suspension of Trading

December 18, 2013.

It appears to the Securities and Exchange Commission that there is a lack of current and accurate information concerning the securities of Golden Elephant Glass Technology, Inc. because it has not filed any periodic reports since the period ended September 30, 2010.

It appears to the Securities and Exchange Commission that there is a lack of current and accurate information concerning the securities of Pacific Alliance Corp. because it has not filed any periodic reports since the period ended September 30, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on December 18, 2013, through 11:59 p.m. EST on January 2, 2014.

By the Commission.
Elizabeth M. Murphy,
Secretary.

[FR Doc. 2013-30473 Filed 12-18-13; 11:15 am]

BILLING CODE 8011-01-P